DEPARTMENT OF TRANSPORTATION

National Highway Traffic Safety Administration

[Docket No. NHTSA-2018-0056]

Request for Information: Improving Prehospital Trauma Care

AGENCY: National Highway Traffic Safety Administration (NHTSA), Department of Transportation (DOT).

ACTION: Notice.

SUMMARY: NHTSA, on behalf of the Federal Interagency Committee on Emergency Medical Services (FICEMS), is seeking comments from all sources (public, private, governmental, academic, professional, public interest groups, and other interested parties) on improving prehospital trauma care.

The purpose of this notice is to solicit comments on improving prehospital trauma care, and to request responses to specific questions provided below. This is neither a request for proposals nor an invitation for bids.

DATES: It is requested that comments on this announcement be submitted by July 26, 2018.

ADDRESSES: You may submit comments [identified by Docket No. NHTSA-2018-0056] through one of the following methods:

• Federal eRulemaking Portal: http://www.regulations.gov. Follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Gamunu Wijetunge, Office of Emergency Medical Services, (202) 493-2793, gamunu.wijetunge@dot.gov, located at the United States Department of Transportation; 1200 New Jersey Avenue SE, NPD-400, Room W44-232, Washington, DC 20590. Office hours are from 9 a.m. to 5 p.m., Monday through Friday, except Federal holidays.

SUPPLEMENTARY INFORMATION:

Background

FICEMS was created (42 U.S.C. 300d-4) by the Secretaries of Transportation, Health and Human Services and Homeland Security to, in part, ensure coordination among the Federal agencies involved with State, local, tribal or regional emergency medical services and 9-1-1 systems. FICEMS has statutory authority to identify State and local Emergency Medical Services (EMS) and 9-1-1 needs, to recommend new or expanded programs and to identify the ways in which Federal agencies can streamline their processes for support of EMS. FICEMS includes representatives from the Department of Defense (DoD) Office of the Assistant Secretary of Defense Health Affairs, the Department of Health and Human Services (HHS) Office of the Assistant Secretary for Preparedness and Response (ASPR), HHS Indian Health Service (IHS), HHS Centers for Disease Control and Prevention (CDC), HHS Health Resources and Services Administration (HRSA), HHS Centers for Medicare and Medicaid Services (CMS), the Department of Homeland Security (DHS) Office of Health Affairs (OHA), DHS U.S. Fire Administration (USFA), NHTSA, the Federal Communications Commission (FCC) and a State EMS Director appointed by the Secretary of Transportation.

In 2016 the National Academies of Sciences, Engineering, and Medicine (NASEM) published a report, A National Trauma Care System: Integrating Military and Civilian Trauma Systems to Achieve Zero Preventable Deaths After Injury (2016 NASEM Trauma Report), that estimated as many as 20 percent of the nearly of 200,000 annual trauma deaths in the United States could be prevented.

On December 2, 2016 the National Emergency Medical Services Advisory Council (NEMSAC) issued recommendations to FICEMS in response to the NASEM report (https://www.ems.gov/pdf/nemsac/NEMSAC_Advisory_MTSPE_Alignment_Trauma_Care_Report.pdf). NEMSAC recommended that FICEMS develop an integrated Federal strategy to address both the recommendations of the NASEM report and the need to update the Model Trauma Systems Planning and Evaluation (MTPSE) document which includes a Benchmarks, Indicators and Scoring (BIS) tool.

On December 6, 2017, FICEMS and the Council on Emergency Medical Care (CEMC) co-hosted a listening session to hear from stakeholders about the challenges facing prehospital trauma care, especially in rural settings, and how to better integrate military and civilian EMS systems. An integrated national trauma care system would allow lessons learned from the battlefield to be translated to civilian EMS and provide opportunities for improved patient care.

A national trauma care system, that integrates military and civilian capabilities, is a crucial part of our Nation's infrastructure and is vital to preserve the health and productivity of the American people.

The 2016 NASEM report estimates that as many as 20% of the nearly 200,000 annual trauma deaths in the United States could be prevented. In its report, the NASEM defined preventable deaths after injury as those casualties whose lives could have been saved by appropriate and timely medical care, irrespective of tactical, logistical, or environmental issues.

Questions on Improving Prehospital Trauma Care

Responses to the following questions are requested. Please provide references as appropriate.

1. What are the current impediments, and possible solutions, to achieving zero preventable deaths in the following settings:

a. Wilderness;

b. Rural;

c. Suburban; and

d. Urban.

2. What should be the national aim for preventable prehospital trauma deaths?

3. What should be the interim national goals to achieve zero preventable deaths in the prehospital setting?

4. What are the most promising or innovative opportunities to improve prehospital trauma care in the following settings:

a. Military;

b. Wilderness;

c. Rural;

d. Suburban; and

e. Urban.

5. How could the Learning Health System model (as described in the 2016 NASEM Trauma Report) be applied to civilian EMS?

6. Are there actions that could be taken today in the prehospital setting (such as promising clinical interventions) that could dramatically improve outcomes for patients who are:

a. Suffering from traumatic pain;

b. Severely injured in a rural roadway crash;

c. Suffering from penetrating trauma;

d. Subjected to a compromised airway;

e. Suffering from a major hemorrhage;

f. Suffering from a pneumothorax;

g. Suffering from blunt force trauma;

h. Suffering from traumatic brain injury;

i. Other clinical conditions (please explain).

7. What EMS evidence based guidelines could be developed to improve trauma patient outcomes?

8. As an EMS stakeholder what do you see is the potential role of the National EMS Information System (NEMSIS) and the EMS Compass performance measures in improving prehospital trauma care?

9. How might active duty, National Guard, and reserve component military resources be used to improve civilian trauma care outcomes in the following settings:

a. Use of military rotary wing assets to support civilian EMS;

b. Placement of military medics in the field to support and cross train with civilian EMS.

10. What actions can be taken to improve public awareness of traumatic injury as a public health issue?

11. What actions could be taken to improve the rapid extrication of motor vehicle crash patients?

12. What actions could be taken to improve the rapid transport of trauma patients?

13. What actions could be taken to improve prehospital care for pediatric trauma patients?

14. What actions could be taken to improve tribal prehospital trauma care?

15. What research is needed to improve prehospital trauma care during a mass casualty incident?

16. What is the potential role of 9-1-1 in improving prehospital trauma care outcomes?

17. What is the potential role of bystander care, such as Stop the Bleed, in improving prehospital trauma care outcomes?

18. What is the potential role of vehicle telematics in improving prehospital trauma care outcomes?

19. What is the potential role of telemedicine in improving prehospital trauma care outcomes?

20. What is the potential role of community paramedicine, mobile integrated healthcare, and other emerging EMS subspecialties in improving prehospital trauma care outcomes?

21. How could data-driven and evidence-based improvements in EMS systems improve prehospital trauma care?

22. How could enhanced collaboration among EMS systems, health care providers, hospitals, public safety answering points, public health, insurers, and others improve prehospital trauma care?

23. What are some opportunities to improve exchange of evidence based prehospital trauma care practices between military and civilian medicine?

24. Do you have any additional comments regarding prehospital trauma care?

Authority: 44 U.S.C. Section 3506(c)(2)(A).

Issued in Washington, DC, on April 19, 2018.
Jeff Michael,
Associate Administrator, Research and Program Development.

[FR Doc. 2018-08504 Filed 4-26-18; 8:45 am]

BILLING CODE 4910-59-P